DEPARTMENT OF HEALTH AND HUMAN SERVICES

National Institutes of Health

National Institute of Dental & Craniofacial Research; Notice of Closed Meetings

Pursuant to section 10(d) of the Federal Advisory Committee Act, as amended (5 U.S.C. Appendix 2), notice is hereby given of the following meetings.

The meetings will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: National Institute of Dental and Craniofacial Research Special Emphasis Panel, 06-82, Review R21s.

Date: June 19, 2006.

Time: 10 a.m. to 12 p.m.

Agenda: To review and evaluate grant applications

Place: National Institutes of Health, Natcher Building, 45 Center Drive, Bethesda, MD 20892. (Telephone Conference Call).

Contact Person: Sooyoun (Sonia) Kim, MS, Associate SRA, 45 Center Dr, 4An 32B, Division of Extramural Research, National Inst. of Dental & Craniofacial Research, National Institute of Health, Bethesda, MD 20892. (301) 594-4827. kims@email.nidr.nih.gov.

Name of Committee: National Institute of Dental and Craniofacial Research Special Emphasis Panel, 06-93, Review F30, F32, R03.

Date: June 20, 2006.

Time: 1:30 p.m. to 3 p.m.

Agenda: To review and evaluate grant applications.

Place: National Institutes of Health, Natcher Building, 45 Center Drive, Bethesda, MD 20892. (Telephone Conference Call).

Contact Person: Rai K. Krishnaraju, PhD., MS, Scientific Review Administrator, Scientific Review Branch, National Inst. of Dental & Craniofacial Research, National Institutes of Health, 45 Center Dr., Rm. 4An 32J, Bethesda, MD 20892. 301-594-4864. kkrishna@nidcr.nih.gov.

Name of Committee: National Institute of Dental and Craniofacial Research Special Emphasis Panel, 06-77, Review R01.

Date: June 20, 2006.

Time: 3 p.m. to 4 p.m.

Agenda: To review and evaluate grant applications.

Place: National Institutes of Health, Natcher Building, 45 Center Drive, Bethesda, MD 20892. (Telephone Conference Call).

Contact Person: Sooyoun (Sonia) Kim, MS, Associate SRA, 45 Center Dr., 4An 32B, Division of Extramural Research, National Inst. of Dental & Craniofacial Research, National Institue of Health, Bethesda, MD 20892. (301) 594-4827. kims@email.nidr.nih.gov.

Name of Committee: National Institute of Dental and Craniofacial Research Special Emphasis Panel, 06-76, Review R01.

Date: July 13, 2006.

Time: 12 p.m. to 2 p.m.

Agenda: To review and evaluate grant applications.

Place: National Institutes of Health, Natcher Building, 45 Center Drive, Bethesda, MD 20892. (Telephone Conference Call).

Contact Person: Sooyoun (Sonia) Kim, MS, Associate SRA, 45 Center Dr., 4An 32B, Division of Extramural Research, National Inst. of Dental & Craniofacial Research, National Institute of Health, Bethesda, MD 20892. (301) 594-4827. kims@email.nidr.nih.gov.

Name of Committee: National Institute of Dental and Craniofacial Research Special Emphasis Panel, 06-84, Review R21.

Date: July 19, 2006.

Time: 2 p.m. to 3 p.m.

Agenda: To review and evaluate grant applications.

Place: National Institutes of Health, Natcher Building, 45 Center Drive, Bethesda, MD 20892 (Telephone Conference Call).

Contact Person: Sooyoun (Sonia) Kim, MS, Associate SRA, 45 Center Dr., 4An 32B, Division of Extramural Research, National Inst. of Dental & Craniofacial Research, National Institute of Health, Bethesda, MD 20892. (301) 594-4827. kims@email.nidr.nih.gov.

Name of Committee: National Institute of Dental and Craniofacial Research Special Emphasis Panel, 06-92, Review R03.

Date: August 4, 2006.

Time: 11 a.m. to 12 p.m.

Agenda: To review and evaluate grant applications.

Place: National Institutes of Health, Natcher Building, 45 Center Drive, Bethesda, MD 20892 (Telephone Conference Call).

Contact Person: Mary Kelly, Scientific Review Specialist, National Institute of Dental & Crainofacial Res., 45 Center Drive, Natcher Bldg., Rm. 4AN38J, Bethesda, MD 20892-6402. (301) 594-4809. mary_kelly@nih.gov.

(Catalgoue of Federal Domestic Assistance Program Nos. 93.121, Oral Diseases and Disorders Research, National Institutes of Health, HHS)

Dated: May 18, 2006.
Anna Snouffer,
Acting Director, Office of Federal Advisory Committee Policy.

[FR Doc. 06-4891 Filed 5-25-06; 8:45 am]

BILLING CODE 4140-01-M